DEPARTMENT OF COMMERCE

International Trade Administration

A-552-801

Certain Frozen Fish Fillets from the Socialist Republic of Vietnam: Initiation of Antidumping Duty New Shipper Reviews

AGENCY: Import Administration, International Trade Administration, Department of Commerce.

EFFECTIVE DATE: April 7, 2008.

SUMMARY: The Department of Commerce (“Department”) has determined that two requests for new shipper reviews (“NSR”) of the antidumping duty order on certain frozen fish fillets (“fish fillets”) from the Socialist Republic of Vietnam (“Vietnam”), received on February 25, 2008, meet the statutory and regulatory requirements for initiation. The period of review (“POR”) for these two NSR is August 1, 2007 January 31, 2008.

FOR FURTHER INFORMATION CONTACT: Paul Walker, AD/CVD Operations, Office 9, Import Administration, International Trade Administration, U.S. Department of Commerce, 14th Street and Constitution Avenue, NW, Washington, D.C. 20230; telephone: 202-482-0413.

SUPPLEMENTARY INFORMATION:

Background

The notice announcing the antidumping duty order on fish fillets from Vietnam was published in the Federal Register on August 12, 2003. See Notice of Antidumping Duty Order: Certain Frozen Fish Fillets from the Socialist Republic of Vietnam, 68 FR 47909 (August 12, 2003).¹ On February 25, 2008, pursuant to section 751(a)(2)(B)(i) of the Tariff Act of 1930, as amended (“the Act”), and 19 CFR 351.214(c), the Department received NSR requests from Asia Commerce Fisheries Joint Stock Company (“Acom”) and Hiep Thanh Seafood Joint Stock Company (“Hiep Thanh”). Both companies certified that they are the producers and exporters of the subject merchandise upon which the requests were based.

¹ Therefore, a semi-annual request for a NSR, based on the annual anniversary month, August, was due to the Department by February 29, 2008. See 19 CFR 351.214(d)(1).

On February 28, 2008, the Department requested that Acom and Hiep Thanh adequately summarize the proprietary information in their NSR requests or provide a clear explanation as to why the information is not capable of summarization. See the Department's February 28, 2008, letters to Acom and Hiep Thanh. In addition, on February 28, 2008, the Department requested a clarification of information contained within Hiep Thanh's NSR request. On February 29, 2008, Acom and Hiep Thanh submitted public versions which adequately summarized their proprietary information and provided explanations as to why certain proprietary information is not capable of summarization. Moreover, on March 3, 2008, Hiep Thanh clarified certain information contained within its NSR request. In addition, Hiep Thanh provided additional information on March 14, 2008.

Pursuant to section 751(a)(2)(B)(i)(I) of the Act and 19 CFR 351.214(b)(2)(i), Acom and Hiep Thanh certified that they did not export fish fillets to the United States during the period of investigation (“POI”). In addition, pursuant to section 751(a)(2)(B)(i)(II) of the Act and 19 CFR 351.214(b)(2)(iii)(A), Acom and Hiep Thanh certified that, since the initiation of the investigation, they have never been affiliated with any Vietnamese exporter or producer who exported fish fillets to the United States during the POI, including those not individually examined during the investigation. As required by 19 CFR 351.214(b)(2)(iii)(B), Acom and Hiep Thanh also certified that their export activities were not controlled by the central government of Vietnam.

In addition to the certifications described above, pursuant to 19 CFR 351.214(b)(2)(iv), Acom and Hiep Thanh submitted documentation establishing the following: (1) the dates on which Acom and Hiep Thanh first shipped fish fillets for export to the United States and the date on which the fish fillets were first entered, or withdrawn from warehouse, for consumption; (2) the volume of their first shipment; and (3) the date of their first sale to an unaffiliated customer in the United States.

The Department conducted U.S. Customs and Border Protection (“CBP”) database queries in an attempt to confirm that Acom and Hiep Thanh's shipments of subject merchandise had entered the United States for consumption and that liquidation of such entries had been properly suspended for antidumping duties. The Department also examined whether the CBP data confirmed that such entries were made during the NSR POR. The information we examined was consistent with that provided by Acom and Hiep Thanh.

Initiation of New Shipper Reviews

Pursuant to section 751(a)(2)(B) of the Act and 19 CFR 351.214(d)(1), the Department finds that Acom and Hiep Thanh meet the threshold requirements for initiation of a NSR for the shipments of fish fillets from Vietnam they produced and exported. See “Memorandum to File from Paul Walker, Senior Case Analyst, Certain Frozen Fish Fillets from the Socialist Republic of Vietnam: Initiation of AD New Shipper Review for Asia Commerce Fisheries Joint Stock Company,” (March 26, 2008): see also “Memorandum to File from Paul Walker, Senior Case Analyst, Certain Frozen Fish Fillets from the Socialist Republic of Vietnam: Initiation of AD New Shipper Review for Hiep Thanh Seafood Joint Stock Company,” (March 26, 2008).

The Department intends to issue the preliminary results of these NSRs no later than 180 days from the date of initiation, and final results no later than 270 days from the date of initiation. See section 751(a)(2)(B)(iv) of the Act.

On August 17, 2006, the Pension Protection Act of 2006 (“H.R. 4”) was signed into law. Section 1632 of H.R. 4 temporarily suspends the authority of the Department to instruct CBP to collect a bond or other security in lieu of a cash deposit in new shipper reviews. Therefore, the posting of a bond under section 751(a)(B)(iii) of the Act in lieu of a cash deposit is not available in this case. Importers of fish fillets from Vietnam manufactured and/or exported by Acom and Hiep Thanh must continue to post cash deposits of estimated antidumping duties on each entry of subject merchandise at the current Vietnam-wide rate of 63.88 percent.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: March 26, 2008.
Stephen J. Claeys,
Deputy Assistant Secretary for Import Administration.

[FR Doc. E8-7218 Filed 4-4-08; 8:45 am]

BILLING CODE 3510-DS-S